DEPARTMENT OF EDUCATION

National Assessment Governing Board

Notice of Meetings

AGENCY: National Assessment Governing Board, U.S. Department of Education.

ACTION: Announcement of open and closed meetings.

SUMMARY: This notice sets forth the agenda for the August 1-3, 2019 Quarterly Board Meeting of the National Assessment Governing Board (hereafter referred to as Governing Board). This notice provides information to members of the public who may be interested in attending the meeting or providing written comments related to the work of the Governing Board. Notice of this meeting is required under the Federal Advisory Committee Act (FACA).

DATES: The Quarterly Board Meeting will be held on the following dates:

• August 1, 2019 from 12:30 p.m. to 6:00 p.m.

• August 2, 2019 from 8:30 a.m. to 5:45 p.m.

• August 3, 2019 from 7:30 a.m. to 11:00 a.m.

ADDRESSES: The Little America Hotel, 2800 West Lincolnway, Cheyenne, WY 82009.

FOR FURTHER INFORMATION CONTACT: Munira Mwalimu, Executive Officer/Designated Federal Official for the Governing Board, 800 North Capitol Street NW, Suite 825, Washington, DC 20002, telephone: (202) 357-6938, fax: (202) 357-6945, email: Munira.Mwalimu@ed.gov.

SUPPLEMENTARY INFORMATION:

Statutory Authority and Function: The Governing Board is established under the National Assessment of Educational Progress Authorization Act, Title III of Public Law 107-279. Information on the Governing Board and its work can be found at www.nagb.gov.

The Governing Board is established to formulate policy for the National Assessment of Educational Progress (NAEP) administered by the National Center for Education Statistics (NCES). The Governing Board's responsibilities include the following: Selecting subject areas to be assessed, developing assessment frameworks and specifications, developing appropriate student achievement levels for each grade and subject tested, developing standards and procedures for interstate and national comparisons, improving the form and use of NAEP, developing guidelines for reporting and disseminating results, and releasing initial NAEP results to the public.

Written comments related to the work of the Governing Board may be submitted electronically or in hard copy to the attention of the Executive Officer/Designated Federal Official (see contact information noted above).

August 1-3, 2019 Committee Meetings

The Governing Board's standing committees will meet to conduct regularly scheduled work based on agenda items planned for this Quarterly Board Meeting and follow-up items as reported in the Governing Board's committee meeting minutes available at https://www.nagb.gov/governing-board/quarterly-board-meetings.html.

Detailed Meeting Agenda: August 1-3, 2019

August 1: Committee Meetings

Assessment Development Committee (ADC): Open Session: 12:30 p.m. to 12:45 p.m.; Closed Session: 12:45 p.m. to 1:45 p.m.; Open Session: 1:45 p.m. to 3:00 p.m.

Executive Committee: Open Session: 4:30 p.m. to 5:25 p.m.; Closed Session 5:25 p.m. to 6:00 p.m.

August 2: Full Governing Board and Committee Meetings

Full Governing Board: Open Session: 8:30 a.m. to 10:50 a.m. Closed Session: 1:15 p.m. to 2:45 p.m. Open Session: 3:00 p.m. to 5:45 p.m.

Committee Meetings: 11:00 a.m. to 1:00 p.m.

ADC: Open Session: 11:00 a.m. to 12:00 p.m. Closed Session: 12:00 p.m. to 1:00 p.m.

Committee on Standards, Design and Methodology (COSDAM): Open Session: 11:00 a.m. to 12:00 p.m.; Joint Open Session with the Reporting and Dissemination Committee (R&D): 12:00 p.m. to 1:00 p.m.

R&D: Open Session: 11:00 a.m. to 12:00 p.m.; Joint Open Session with COSDAM: 12:00 p.m. to 1:00 p.m.

August 3: Full Governing Board and Committee Meetings

Nominations Committee: Open Session: 7:30 a.m. to 8:15 a.m.

Full Governing Board: Open Session: 8:30 a.m. to 8:40 a.m.; Closed Session: 8:40 a.m. to 9:30 a.m.; Open Session: 9:30 a.m. to 11:00 a.m.

On Thursday, August 1, 2019, ADC will begin in open session from 12:30 p.m. to 12:45 p.m., and then meet in closed session to discuss secure item information from the NAEP Mathematics Assessment from 12:45 p.m. to 1:45 p.m. This meeting must be conducted in closed session because the secure items have not been released to the public. Discussion of this information would be likely to significantly impede implementation of a proposed agency action if conducted in open session. Such matters are protected by exemption 9(B) of section 552b of Title 5 U.S.C. The ADC will conclude their meeting in open session from 1:45 p.m. to 3:00 p.m.

On Thursday, August 1, 2019, the Executive Committee will convene in open session from 4:30 p.m. to 5:25 p.m. and thereafter in closed session from 5:25 p.m. to 6:00 p.m. During the closed session, the Executive Committee will receive and discuss the NAEP Assessment Schedule and budget implications for future NAEP assessments based on the approved NAEP Assessment Schedule and independent government cost estimates. This meeting must be conducted in closed session because public disclosure of this information would likely have an adverse financial effect on the NAEP program by providing detailed proprietary contract costs of current NAEP contractors to the public and disclose independent government cost estimates for future NAEP assessments. Discussion of this information would be likely to significantly impede implementation of a proposed agency action if conducted in open session. Such matters are protected by exemption 9(B) of section 552b of Title 5 U.S.C.

On Friday, August 2, 2019, the Governing Board will meet in open session from 8:30 a.m. to 10:50 a.m.

From 8:30 a.m. to 8:45 a.m. the Governing Board will review and approve the August 1-3, 2019 Quarterly Board Meeting agenda and the meeting minutes from the May 2019 Quarterly Board meeting. The Governing Board will be welcomed by leaders in Wyoming, following which the Governing Board Chair, Beverly Perdue will provide remarks. Thereafter, from 8:45 a.m. to 9:10 a.m., the Governing Board's Executive Director Lesley Muldoon and the Director of Institute of Education Sciences, Mark Schneider will provide remarks.

From 9:10 a.m. to 10:40 a.m., the Governing Board will receive a briefing and discuss the 2025 NAEP Mathematics Framework. From 10:40 a.m. to 10:50 a.m., standing committee chairs will provide a preview of committee meeting agendas. At 10:50 a.m., the Governing Board will recess for a 10-minute break and meet thereafter in committee meetings from 11:00 p.m. to 1:00 p.m.

On Friday, August 2, ADC, will meet in open session from 11:00 a.m. to 12:00 p.m. followed by a closed session meeting from 12:00 p.m. to 1:00 p.m. to discuss secure item information for the NAEP Reading Assessment. This meeting must be conducted in closed session because the secure items have not been released to the public. Discussion of this information would be likely to significantly impede implementation of a proposed agency action if conducted in open session. Such matters are protected by exemption 9(B) of section 552b of Title 5 U.S.C.

R&D and COSDAM will meet in open sessions from 11:00 a.m. to 12:00 p.m. and thereafter in a joint open session from 12:00 p.m. to 1:00 p.m.

Following the committee meetings, on Friday, August 2, 2019, the Governing Board will take a 15 minutes break and convene in closed session from 1:15 p.m. to 2:45 p.m. During this session, the Governing Board will receive a briefing and discuss results for the 2019 NAEP Reading and Mathematics assessments for Grades 4 and 8. This meeting must be conducted in closed session as results from the 2019 NAEP Reading and Mathematics assessments have not been released to the public. Public disclosure of secure data would significantly impede implementation of the NAEP assessment program if conducted in open session. Such matters are protected by exemption 9(B) of § 552b(c) of Title 5 of the United States Code.

The Governing Board will take a 15-minute break and reconvene in open session from 3:00 p.m. to 4:15 p.m. to receive a briefing on Postsecondary Preparedness from a panel of Wyoming stakeholders. Following a 15 minutes break, this session will continue with open dialogue with Governing Board members and stakeholders which will be held from 4:30 p.m. to 5:45 p.m.

The August 2, 2019 session of the Governing Board meeting will adjourn at 5:45 p.m.

On Saturday, August 3, 2019, the Nominations Committee will meet from 7:30 a.m. to 8:15 a.m. in open session to discuss plans for launching the 2020 nominations cycle for Governing Board appointments by the Secretary fort terms that would begin October 1, 2020.

On August 3, 2019 from 8:30 a.m. to 8:40 a.m. the NCES Commissioner Lynn Woodworth will provide remarks on the NAEP graduate student interns' work. Following this session, the Governing Board will receive a closed session briefing from 8:40 a.m. to 9:30 a.m. from Lesley Muldoon and Peggy Carr, Deputy Commissioner, NCES, on recently awarded contracts and contract costs based on the Independent Government Cost Estimates and long-term implications for the NAEP Assessment Schedule and Budget. The discussions will involve a briefing on confidential contract costs via-a-vis independent government cost estimates for assessing NAEP subjects on the recently approved NAEP Assessment Schedule. Public disclosure of independent government cost estimates, proprietary contract costs, and internal NAEP budget decisions would significantly impede implementation of the NAEP assessment program if conducted in open session. Such matters are protected by exemption 9(B) of § 552b(c) of Title 5 of the United States Code.

Following the closed session, the Governing Board will meet in open session from 9:30 a.m. to 10:00 a.m. to receive reports from its standing committees and take action on the nomination of the Vice Chair for the term that will begin October 1, 2019 to September 30, 2020.

From 10:00 a.m. to 10:30 a.m. the Governing Board has set aside time for an open discussion on Governing Board priorities and topics that members will bring up for future discussions. Departing Governing Board members Dale Nowlin, Fielding Rolston, Cary Schneider and Ken Wagner will provide remarks from 10:30 a.m. to 11:00 a.m. The August 3, 2019 session of the Governing Board meeting will adjourn at 11:00 a.m.

Access to Records of the Meeting: Pursuant to FACA requirements, the public may also inspect the meeting materials at www.nagb.gov beginning on August 13, 2019, by 10:00 a.m. EST. The official verbatim transcripts of the public meeting sessions will be available for public inspection no later than 30 calendar days following the meeting.

Reasonable Accommodations: The meeting site is accessible to individuals with disabilities. If you will need an auxiliary aid or service to participate in the meeting (e.g., interpreting service, assistive listening device, or materials in an alternate format), notify the contact person listed in this notice no later than 21 days prior to the meeting.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Public Law 107-279, Title III—National Assessment of Educational Progress § 301.

Lisa Stooksberry,
Deputy Executive Director, National Assessment Governing Board (NAGB), U.S. Department of Education.

[FR Doc. 2019-14904 Filed 7-12-19; 8:45 am]

BILLING CODE P